DEPARTMENT OF DEFENSE

Office of the Secretary

32 CFR Part 338

[Docket ID: DOD-2019-OS-0013]

RIN 0790-AK55

Availability to the Public of Defense Nuclear Agency (DNA) Instructions and Changes Thereto

AGENCY: Defense Threat Reduction Agency (DTRA), Department of Defense (DoD).

ACTION: Final rule.

SUMMARY: This final rule removes an obsolete DoD regulation (last updated on December 10, 1991) which provides information related to public requests for Defense Nuclear Agency (DNA) records. DNA is an obsolete predecessor organization of DTRA. As a result, this part should be removed.

DATES: This rule is effective on June 24, 2019.

FOR FURTHER INFORMATION CONTACT: Todd A. Cimbura at 571-616-5941.

SUPPLEMENTARY INFORMATION: It has been determined that publication of this rule for public comment is impracticable, unnecessary, and contrary to public interest since it is based on the removal of obsolete information. Due to the disestablishment of the DNA and the eventual incorporation of its successor organization into DTRA, 32 CFR part 338 (last updated on December 10, 1991 at 56 FR 64482) is obsolete. Additionally, the public retains the ability to obtain information using established DoD Freedom of Information Act procedures outlined in 32 CFR part 286, “DoD Freedom of Information Act (FOIA) Program,” by submitting a request to DTRA's FOIA Office at http://www.dtra.mil/Home/Freedom-of-Information-Act-and-Privacy-Act/.

This rule is not significant under Executive Order (E.O.) 12866, “Regulatory Planning and Review,” therefore E.O. 13771, “Reducing Regulation and Controlling Regulatory Costs” does not apply.

List of Subjects in 32 CFR Part 338

Freedom of information.

PART 338—[REMOVED]

Accordingly, by the authority of 5 U.S.C. 301, 32 CFR part 338 is removed.

Dated: June 17, 2019.
Shelly E. Finke,
Alternate OSD Federal Register Liaison Officer, Department of Defense.

[FR Doc. 2019-13199 Filed 6-21-19; 8:45 am]

BILLING CODE 5001-06-P